DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

Proposed Project: Evaluation of the Implementation and Outcomes of the Maternal and Child Health Bureau's National Healthy Start Program—NEW

HRSA's Maternal and Child Health Bureau is planning to conduct a survey to collect information concerning Healthy Start, a community-based initiative, to understand how Healthy Start services are expected to change local health care systems and service delivery and ultimately affect maternal and child health outcomes. The purpose of the survey is to collect consistent and comprehensive information across current grantees about their Healthy Start program, its organizational configuration, community context, and the extent to which the program components address service needs and contribute to grantees meeting their Healthy Start goals. A two-part survey consisting of a mail component followed by a telephone follow-up is proposed. The mail survey will focus on obtaining descriptive and quantitative data that is currently not available. The phone survey will be used to obtain grantee assessments of program achievements, factors that facilitated their achievements, and challenges that they faced.

Data collection will cover information on the five service components (case management, health education, outreach, perinatal depression screening, and interconceptional care), and the four systems-building components (consortium, collaboration with Title V, local health systems action plan, and sustainability plan) that comprise the Healthy Start program. Data gathered from the survey will be used to provide HRSA the information necessary to assess the grantees' achievement of three core Healthy Start program goals: (1) Reduced racial and ethnic disparities in access to and utilization of health services; (2) improved local health care system; and (3) increased consumer or community voice in health care decisions. The survey will provide information that is currently unavailable from the service delivery and performance measure data. Based on the data collected in this survey, the National Evaluator will conduct cross-site analyses.

The estimated burden on respondents is as follows:

Respondents | Number of respondents | Hours per respondent | Total hour burden
Grantees | 96 | 3 | 288

Written comments and recommendations concerning the proposed information collection should be sent within 30 days of this notice to: Desk Officer, Health Resources and Services Administration, Human Resources and Housing Branch, Office of Management and Budget, New Executive Office Building, Room 10235, Washington, DC 20503.

Dated: February 13, 2004.
Tina M. Cheatham,
Director, Division of Policy Review and Coordination.

[FR Doc. 04-3862 Filed 2-23-04; 8:45 am]

BILLING CODE 4165-15-P